DEPARTMENT OF TRANSPORTATION

Federal Aviation Administration

14 CFR Part 95

[Docket No. 30653; Amdt. No. 479]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, March 12, 2009.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on February 13, 2009.
John M. Allen,
Director, Flight Standards Service.

Adoption of the Amendment

Accordingly, pursuant to the authority delegated to me by the Administrator, part 95 of the Federal Aviation Regulations (14 CFR part 95) is amended as follows effective at 0901 UTC, March 12,2009.

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 479 effective date March 12, 2009]
From | To | MEA | MAA
§ 95.4000 High Altitude RNAV Routes is Added to Read
§ 95.4254 RNAV Route T254
LAKE CHARLES, LA VORTAC | CREPO, TX FIX | 2200 | 10000
CREPO, TX FIX | EAKES, TX FIX | 3100 | 10000
EAKES, TX FIX | COLLEGE STATION, TX VORTAC | 3000 | 10000
COLLEGE STATION, TX VORTAC | CENTEX, TX VORTAC | *3000 | 10000
*2100—MOCA

From | To | MEA
§ 95.6001 Victor Routes—U.S. is Amended to Read in Part
§ 95.6002 VOR Federal Airway V2
JAMESTOWN, ND VOR/DME | *CHAFE, ND FIX | 3300
*6000—MRA
§ 95.6012 VOR Federal Airway V12 is Amended to Read in Part
ALLEGHENY, PA VOR/DME | MILWO, PA FIX | 4000
§ 95.6014 VOR Federal Airway V14 is Amended to Read in Part
#BUFFALO, NY VOR/DME | GENESEO, NY VOR/DME | 4000
#BUF R-106 UNUSABLE
§ 95.6018 VOR Federal Airway V18 is Amended to Read in Part
LASHE, SC FIX | NORMS, SC FIX | *3000
*2100—MOCA
§ 95.6026 VOR Federal Airway V26 is Amended to Read in Part
CHEROKEE, WY VOR/DME | *ALCOS, WY FIX | 11600
*9900—MRA
*ALCOS, WY FIX | MUDDY MOUNTAIN, WY VORTAC |
| NE BND | **8400
| SW BND | **9700
*9900—MRA
**7900—MOCA
§ 95.6037 VOR Federal Airway V37 is Amended to Read in Part
ALLENDALE, SC VOR | COLUMBIA, SC VORTAC | *3000
*2000—GNSS MEA
§ 95.6070 VOR Federal Airway V70 is Amended to Read in Part
PALACIOS, TX VORTAC | SCHOLES, TX VORTAC | 2600
§ 95.6084 VOR Federal Airway V84 is Amended to Read in Part
#BUFFALO, NY VOR/DME | GENESEO, NY VOR/DME | 4000
#BUF R-106 UNUSABLE
§ 95.6129 VOR Federal Airway V129 is Amended to Read in Part
EAU CLAIRE, WI VORTAC | DULUTH, MN VORTAC | *4000
*3100—MOCA
§ 95.6139 VOR Federal Airway V139 is Amended to Read in Part
PLUME, NJ FIX | *KOPPY, NY FIX | **4000
*5000—MRA
**3000—MOCA
**3000—GNSS MEA
*KOPPY, NY FIX | BEADS, NY FIX | **4000
*5000—MRA
**3000—MOCA
**3000—GNSS MEA
§ 95.6170 VOR Federal Airway V170 is Amended to Read in Part
WORTHINGTON, MN VOR/DME | FAIRMONT, MN VOR/DME | 3300
§ 95.6250 VOR Federal Airway V250 is Amended to Read in Part
WORTHINGTON, MN VOR/DME | MANKATO, MN VOR/DME | 3400
§ 95.6268 VOR Federal Airway V268 is Amended to Read in Part
PLUME, NJ FIX | *KOPPY, NY FIX | **4000
*5000—MRA
**3000—MOCA
**3000—GNSS MEA
*KOPPY, NY FIX | BEADS, NY FIX | **4000
*5000—MRA
**3000—MOCA
**3000—GNSS MEA
§ 95.6286 VOR Federal Airway V286 is Amended to Read in Part
BROOKE, VA VORTAC | ZUNAR, VA FIX | 3000
ZUNAR, VA FIX | GWYNN, VA FIX | 2000
GWYNN, VA FIX | CAPE CHARLES, VA VORTAC | *2000
*1500—MOCA
§ 95.6308 VOR Federal Airway V308 is Amended to Read in Part
NOTTINGHAM, MD VORTAC | *BILIT, MD FIX | **6000
*6000—MCA BILIT, MD FIX, W BND
**1600—MOCA
**2000—GNSS MEA
BILIT, MD FIX | WATERLOO, DE VOR/DME | *2000
*1500—MOCA
PLUME, NJ FIX | *KOPPY, NY FIX | **4000
*5000—MRA
**3000—MOCA
**3000—GNSS MEA
*KOPPY, NY FIX | BEADS, NY FIX | **4000
*5000—MRA
**3000—MOCA
**3000—GNSS MEA
§ 95.6345 VOR Federal Airway V345 is Amended to Read in Part
EAU CLAIRE, WI VORTAC | *HOMLO, WI FIX | **5200
*10000—MRA
**3100—MOCA
**4000—GNSS MEA
*HOMLO, WI FIX | HAYWARD, WI VOR/DME | **10000
*10000—MRA
**3100—MOCA
**4000—GNSS MEA
HAYWARD, WI VOR/DME | *GRASS, WI FIX | #**10000
*6000—MRA
**3000—MOCA
**4000—GNSS MEA
#UNUSABLE BELOW 10000
*GRASS, WI FIX | ASHLAND, WI VOR/DME | **4000
*6000—MRA
**2900—MOCA
**3000—GNSS MEA
§ 95.6362 VOR Federal Airway V362 is Amended to Read in Part
BRUNSWICK, GA VORTAC | *HABLE, GA FIX | **3000
*10000—MCA HABLE, GA FIX, NW BND
**1700—MOCA
HABLE, GA FIX | ALMA, GA VORTAC | *10000
*1700—MOCA
*3000—GNSS MEA
§ 95.6394 VOR Federal Airway V394 is Amended to Read in Part
DAGGETT, CA VORTAC | OASYS, NV FIX | *12000
*9500—MOCA
*10000—GNSS MEA
§ 95.6500 VOR Federal Airway V500 is Amended to Read in Part
NEWBERG, OR VOR/DME | GLARA, OR FIX | 4000
GLARA, OR FIX | *HARZL, OR FIX |
| W BND | **7200
| E BND | **10000
*7200—MRA
**6600—MOCA
**7000—GNSS MEA
*HARZL, OR FIX | RATZZ, OR FIX |
| E BND | **10000
| W BND | **8000
*7200—MRA
**7400—MOCA
**8000—GNSS MEA
RATZZ, OR FIX | *GASHE, OR FIX | **10000
*10000—MRA
**8000—MOCA
**8000—GNSS MEA
*GASHE, OR FIX | KIMBERLY, OR VORTAC | **9200
*10000—MRA
**8200—MOCA
§ 95.6510 VOR Federal Airway V510 is Amended to Read in Part
JAMESTOWN, ND VOR/DME | *CHAFE, ND FIX | 3300
*6000—MRA
§ 95.6562 VOR Federal Airway V562 is Amended to Read in Part
*FERER, AZ FIX | DRAKE, AZ VORTAC | **10000
*12000—MRA
**9200—MOCA
§ 95.6567 VOR Federal Airway V567 is Amended to Read in Part
*FERER, AZ FIX | WINSLOW, AZ VORTAC | **14000
*12000—MRA
**10000—GNSS MEA
§ 95.6589 VOR Federal Airway V589 is Amended to Read in Part
MEDICINE BOW, WY VOR/DME | *ALCOS, WY FIX | 9900
*9900—MRA
*ALCOS, WY FIX | MUDDY MOUNTAIN, WY VORTAC |
| NE BND | **8400
| SW BND | **9700
*9900—MRA
**7900—MOCA
§ 95.6605 VOR Federal Airway V605 is Amended to Read in Part
HOLSTON MOUNTAIN, TN VORTAC | *GENOD, NC FIX | 8500
*15000—MRA
*GENOD, NC FIX | SPARTANBURG, SC VORTAC | **15000
*15000—MRA
**4200—MOCA
**5000—GNSS MEA
§ 95.6319 Alaska VOR Federal Airway V319 is Amended to Read in Part
EYAKS, AK FIX | *JOHNSTONE POINT, AK VOR/DME | 5000
*4800—MCA JOHNSTONE POINT, AK VOR/DME , E BND
JOHNSTONE POINT, AK VOR/DME | *EDELE, AK FIX | 4400
*8000—MCA EDELE, AK FIX , W BND
EDELE, AK FIX | WILER, AK FIX |
| W BND | *10000
| E BND | *8000
*5900—MOCA
*6000—GNSS MEA

From | To | MEA | MAA
§ 95.7001 Jet Routes
§ 95.7042 Jet Route J42 is Amended to Read in Part
FOUNT, KY FIX | TONIO, KY FIX | *20000 | 35000
*18000—GNSS MEA
TONIO, KY FIX | #BECKLEY, WV VORTAC | *18000 | 35000
*18000—GNSS MEA
#BKW R-257 UNSUSABLE
§ 95.7083 Jet Route J83 is Amended to Read in Part
#APPLETON, OH VORTAC | DRYER, OH VOR/DME | 18000 | 45000
#APE R-021 UNUSABLE

Airway segment: From | Airway segment: To | Changeover points: Distance | Changeover points: From
§ 95.8003 VOR Federal Airway Changeover Points is Amended to Delete Changeover Point
ROCHESTER, NY VOR/DME | ROCHESTER, NY VOR/DME | 13 | Rochester
V20 is Amended to Add Changeover Point
PALACIOS, TX VORTAC | HOBBY, TX VOR/DME | 41 | Palacios
V166 is Amended to Add Changeover Point
WESTMINSTER, MD VORTAC | DUPONT, DE VORTAC | 40 | Westminster

[FR Doc. E9-3914 Filed 2-23-09; 8:45 am]

BILLING CODE 4910-13-P